DEPARTMENT OF JUSTICE

Notice of Lodging of Proposed Settlement Agreement Under the Comprehensive Environmental Response, Compensation, and Liability Act

On May 3, 2016, the Department of Justice lodged a proposed Settlement Agreement with the United States District Court for the Virgin Islands, Bankruptcy Division in In re Caribbean Auto Mart of St. Croix, Inc., Case No. 1:13-bk-10003. The proposed Settlement Agreement resolves the proof of claim filed by the United States for recovery of environmental response costs incurred under the Comprehensive Environmental Response, Compensation and Liability Act (“CERCLA”), 42 U.S.C. 9601 et seq., at the TC Waste Oil Superfund Site in St. Croix. Under the proposed Settlement Agreement, the United States is provided an allowed general unsecured claim of $423,448.

The publication of this notice opens a period for public comment on the Settlement Agreement. Comments should be addressed to the Assistant Attorney General, Environment and Natural Resources Division, and should refer to In re Caribbean Auto Mart of St. Croix, Inc., D.J. Ref. No. 90-11-3-10248/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department Web site: http://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $3.50 (25 cents per page reproduction cost) payable to the United States Treasury.

Robert E. Maher Jr.,
Assistant Section Chief, Environmental Enforcement Section, Environment and Natural Resources Division.

[FR Doc. 2016-11419 Filed 5-13-16; 8:45 am]

BILLING CODE 4410-15-P